DEPARTMENT OF COMMERCE

United States Patent and Trademark Office

[Docket No. PTO-P-2013-0011]

Request for Comments on Proposed Elimination of Patents Search Templates

AGENCY: United States Patent and Trademark Office, Commerce.

ACTION: Request for comments.

SUMMARY: The USPTO is proposing to eliminate the Patents Search Templates from the USPTO Web site. In 2006, the United States Patent and Trademark Office (USPTO) implemented Patents Search Templates, which are United States Patent Classification (USPC) indexed search templates that were created to better identify the field of search, search tools, and search methodologies which should be considered each time an invention related to a particular USPC is searched. There are over 1200 search templates covering more than 600 USPC classes and subclasses. Historically, usage of the search templates by the public has been extremely low. Additionally, various aspects of the search templates, such as references to commercial database vendor information, are in need of updating. Further, the USPTO launched a new classification system, the Cooperative Patent Classification (CPC) system, in January 2013 that is based on the International Patent Classification (IPC) system. The CPC, a joint patent classification system developed by the USPTO and the European Patent Office (EPO), incorporates the best classification practices of both the U.S. and European systems. Since CPC is a detailed, collaborative, and dynamic system that will enable patent examiners and the public to efficiently conduct thorough patent searches, the search templates will become obsolete. Before eliminating the search templates from the USPTO Web site, the Office is requesting comments from the public.

DATES: Comment Deadline Date: Written comments must be received on or before November 29, 2013 to ensure consideration. No public hearing will be held.

ADDRESSES: Comments should be sent by electronic mail message over the Internet addressed to: SearchTemplatesRFC@uspto.gov. Comments may also be submitted by postal mail addressed to: United States Patent and Trademark Office, Mail Stop Comments—Patents, Office of Commissioner for Patents, P.O. Box 1450, Alexandria, VA 22313-1450, marked to the attention of Pinchus M. Laufer. Although comments may be submitted by postal mail, the Office prefers to receive comments by electronic mail message over the Internet in order to facilitate posting on the Office's Internet Web site.

The comments will be available for public inspection at the Office of the Commissioner for Patents, located at Madison Building East, Tenth Floor, 600 Dulany Street, Alexandria, Virginia. Comments also will be available for viewing via the Office's Internet Web site (http://www.uspto.gov). Because comments will be made available for public inspection, information that is not desired to be made public, such as an address or phone number, should not be included in the comments.

FOR FURTHER INFORMATION CONTACT: Pinchus M. Laufer, Senior Legal Advisor, Office of Patent Legal Administration, Office of the Deputy Commissioner for Patent Examination Policy, by telephone at 571-272-7726; or by mail addressed to: Mail Stop Comments—Patents, Commissioner for Patents, P.O. Box 1450, Alexandria, VA 22313-1450.

SUPPLEMENTARY INFORMATION: The USPTO published a notice for a request for comments on the search templates on May 16, 2006. See Request for Comments on Patents Search Templates, 94 FR 28309 (May 16, 2006). The search templates were created to better identify the field of search, search tools, and search methodologies which should be considered each time an invention related to a particular USPC is searched.

The USPTO is proposing to remove the search templates from its Web site. The search templates are currently out-of-date since they include, for example, outdated commercial database vendor information that could be misleading for external stakeholders. Also, the search templates are indexed under USPC, which will no longer be used. Updating the search templates, which would require the editing of over 1200 pages, would not be an efficient use of USPTO resources since the templates are rarely used by the public. Additionally, CPC, the new internationally compatible classification system, was launched in January 2013. CPC is a detailed, dynamic classification system that is based on the IPC and enables patent examiners and the public to efficiently conduct thorough patent searches. As a result of the implementation of the CPC, the search templates will become obsolete. CPC has been jointly developed with the EPO and incorporates the best classification practices of both the U.S. and European systems. The USPTO and the EPO also believe that CPC will enhance efficiency and support work sharing initiatives with a view to reducing unnecessary duplication of work, thereby leading to enhanced patent quality and timelier examination of pending applications. Initial feedback from stakeholders confirms that the transition to CPC is a positive development. More information about CPC can be found at http://www.cooperativepatentclassification.org.

Due to the factors discussed above, the Office is proposing the removal of the search templates from the USPTO Web site. Notice and opportunity for public comment are not required prior to removal of the search templates. The Office, however, is publishing this notice for comment as it seeks the benefit of the public's views on the Office's proposed removal of the search templates. If, after consideration of the comments, the Office goes forward with the elimination of the search templates, a notice to that effect will be published, and any references to the search templates in USPTO documentation (for example, in the Accelerated Examination FAQs) will be updated.

Dated: October 23, 2013.
Teresa Stanek Rea,
Deputy Under Secretary of Commerce for Intellectual Property and Deputy Director of the United States Patent and Trademark Office.

[FR Doc. 2013-25685 Filed 10-29-13; 8:45 am]

BILLING CODE 3510-16-P